DEPARTMENT OF THE INTERIOR

Bureau of Land Management

[WO-220-1020-PB-01-24 1A]

Extension of Approved Information Collection, OMB Approval Number 1004-0051

AGENCY: Bureau of Land Management, Interior.

ACTION: Notice and request for comments.

SUMMARY: In accordance with the Paperwork Reduction Act of 1995, the Bureau of Land Management (BLM) announces its intention to request extension of an existing approval to collect certain information from permittees and lessees on the actual grazing use by their livestock. BLM uses Form 4130-5 (ACTUAL GRAZING USE REPORT) under the authority of Sections 3 and 15 of the Taylor Grazing Act and implementing regulations found at 43 CFR 4130.3-2(d) and 4130.8-1(e). BLM request information necessary to compute the amount of forage consumed by the authorized grazing animals by area and period.

DATES: You must submit your comments to BLM at the appropriate address below on or before February 20, 2001. BLM will not necessarily consider any comments received after the above date.

ADDRESSES: Comments may be mailed to: Regulatory Affairs Group (630), Bureau of Land Management, 1849 C Street NW., Room 401LS, Washington, DC 20240.

Comments may be sent via Internet to: WOComment@blm.gov. Please include “ATTN: 1004-0051” and your name and return address in your Internet message.

Comments may be hand-delivered to the Bureau of Land Management, Administrative Record, Room 401, 1620 L Street, NW., Washington, DC.

Comments will be available for public review at the L Street address during regular business hours (7:45 a.m. to 4:15 p.m), Monday through Friday.

FOR FURTHER INFORMATION CONTACT: You may contact Ken Visser on (202) 452-7743 (commercial or FTS). Persons who use a telecommunications device for the deaf (TDD) may call the Federal Information Relay Service at 1-800-877-8330, 24 hours a day, seven days a week, to contact Mr. Visser.

SUPPLEMENTARY INFORMATION: 5 CFR 1320.12(a) requires BLM to provide 60-day notice in the Federal Register concerning a collection of information contained in regulations in 43 CFR Part 4130 to solicit comments on (a) whether the proposed collection of information is necessary for the proper performance of the functions of the agency, including whether the information will have practical utility; (b) the accuracy of the agency's estimate of the burden of the proposed collection, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et seq.

The Taylor Grazing Act (TGA) of 1934 (43 U.S.C. 315, 315 et seq.,) the Federal Land Policy and Management Act (FLPMA) of 1976 (43 U.S.C. 1701 et seq.), and the Public Rangelands Improvement Act (PRIA) of 1978 (43 U.S.C. 1901 et seq.) provide the authority for the BLM to administer the livestock grazing program consistent with land-use plans, multiple-use objectives, sustained yield, environmental values, economic considerations, and other factors. BLM administers the grazing program generally by issuing grazing permits or leases that specify allowable livestock use by location, number and period. BLM recognizes that to sustain and conserve resources, minor annual adjustments of grazing terms and conditions as specified on a multi-year term permit or lease are needed to balance actual grazing use with available forage and water. Therefore, rather than relying solely upon the terms and conditions of the permit or leases as a record of the use made during any one year, BLM can require submission of information that more accurately reflects the grazing use. Sections 3 and 15 of the TGA and regulations in 43 CFR 4130.3-2(d) provide that BLM may require permittees or lessees to furnish a record of their actual grazing use. The regulations at 43 CFR 4130.8-1(e) provide for a grazing fee payment after the grazing season under specified circumstances.

BLM uses this information for two specific purposes:

a. To calculate the fees due for the grazing use completed. Fees are due the United States upon issuance of a billing notice and must be paid in full prior to grazing use, except when an allotment management plan (AMP) provides for delayed payment and has been incorporated into a grazing permit or lease. In this latter situation, BLM will issue a billing notice based upon the actual grazing use completed at the end of the grazing period or year (43 CFR 4130.8-1(e)). BLM uses the information collected to bill for grazing use or to makeup a part of the allotment monitoring records. The permittee and lessee must keep accurate and current records for the period of time covered by his/her permit or lease. The information collected includes allotment and pasture location of the grazing, the date and numbers of livestock permitted on or removed from the range, and the kind or class of livestock grazed.

b. To obtain information needed to monitor and evaluate livestock grazing use. The purposes of the information are to determine if adjustments in the amount of use are needed, or if other management actions could achieve the desired effects. Knowledge of actual livestock grazing use is essential in the monitoring and the evaluation of the livestock grazing management program. Information on the specific use is essential for an accurate and complete analysis and evaluation of the effects of livestock grazing during particular periods of time, as interrelated with other factors such as climate, growth characteristics of the vegetation, and utilization levels on the plants. Failure to collect this information would result in BLM having unsatisfactory data and a reduced capability to make adjustments in grazing use or management.

Without this information, the BLM could not fulfill its responsibility to manage uses of the public land as required by law. The required information is only available form the grazing operators. Because the actual grazing use that occurs is not constant from year to year, BLM requires information for each grazing season for which grazing use is sought.

Based on BLM's experience administering the activities described above, the public reporting burden for the information collected estimates to average 25 minutes per response. Because of the variations in size and complexity of range livestock operations, some of the 15,000 responses may take a few minutes in one recording session to complete the form, while others may take up to 60 minutes combined through several sessions during the grazing year, with each requiring a few minutes to enter the required data. The respondents include permittees and lessees required to furnish a record of the actual grazing use. The frequency of response is annually. The estimated number of responses per year is 15,000. The estimated total annual burden is 6,250 hours. BLM specifically requests your comments on its estimate of the amount of time that it takes to prepare a response.

BLM will summarize all responses to this notice and include them in the request for Office of Management and Budget approval. All comments will also become a matter of public record.

Dated: December 14, 2000.
Michael Schwartz,
BLM Information Collection Clearance Officer.

[FR Doc. 00-32292 Filed 12-18-00; 8:45 am]

BILLING CODE 4310-84-M